DEPARTMENT OF TRANSPORTATION

Surface Transportation Board

[STB Finance Docket No. 34253]

TransitAmerica, LLC—Operation Exemption—Line In Buchanan County, MO

TransitAmerica, LLC (TRAM), a noncarrier, has filed a verified notice of exemption under 49 CFR 1150.31 to operate approximately 2.6 miles of rail line, previously owned by the Herzog Contracting Corporation (HCC),¹ between approximately milepost 201.0 and approximately milepost 198.4 east of St. Joseph, MO. TRAM certifies that its projected revenues as a result of this transaction will not exceed those that would qualify it as a Class III rail carrier, and that such revenues will not exceed $5 million.

¹ HCC is a limited liability member of TRAM. TRAM recently acquired the right, title and interest in this abandoned railroad right-of-way from HCC.

The transaction was scheduled to be consummated on or after September 24, 2002, the effective date of the exemption (7 days after the exemption was filed).

If the verified notice contains false or misleading information, the exemption is void ab initio. Petitions to revoke the exemption under 49 U.S.C. 10502(d) may be filed at any time. The filing of a petition to revoke will not automatically stay the transaction.

An original and 10 copies of all pleadings, referring to STB Finance Docket No. 34253, must be filed with the Surface Transportation Board, 1925 K Street, NW., Washington, DC 20423-0001. In addition, a copy of each pleading must be served on Kevin M. Sheys, Kirkpatrick & Lockhart LLP, 1800 Massachusetts Ave., 2nd Floor, NW., Washington, DC 20036.

Board decisions and notices are available on our website at “www.stb.dot.gov.”

Decided: October 10, 2002.
By the Board, David M. Konschnik, Director, Office of Proceedings.
Vernon A. Williams,
Secretary.

[FR Doc. 02-26422 Filed 10-16-02; 8:45 am]

BILLING CODE 4915-00-P